DEPARTMENT OF TRANSPORTATION

Federal Aviation Administration

[Policy Statement No. ASNM-03-115-31]

Conducting Component Level Tests To Demonstrate Compliance

AGENCY: Federal Aviation Administration (FAA), DOT.

ACTION: Notice of proposed policy; request for comments; reopening of comment period.

SUMMARY: The Federal Aviation Administration (FAA) announced the availability of proposed policy on conducting component level tests in order to demonstrate compliance with the requirements of § 25.785(b) and (d), in a Federal Register notice published on July 22, 2003 (68 FR 43418). The comment period closed on August 21, 2003. The FAA is herewith reopening the comment period to allow additional time for comment.

DATES: Send your comments on or before October 30, 2003.

ADDRESSES: Address your comments to the individual identified under FOR FURTHER INFORMATION CONTACT.

FOR FURTHER INFORMATION CONTACT: Jim Cashdollar, Federal Aviation Administration, Transport Airplane Directorate, Transport Standards Staff, Airframe and Cabin Safety Branch, ANM-115, 1601 Lind Avenue SW., Renton, WA 98055-4056; telephone (425) 227-2785; fax (425) 227-1149; e-mail: jim.cashdollar@faa.gov.

SUPPLEMENTARY INFORMATION:

Comments Invited

The proposed policy is available on the Internet at the following address: http://www.airweb.faa.gov/rgl. If you do not have access to the Internet, you can obtain a copy of the policy by contacting the period listed under FOR FURTHER INFORMATION CONTACT.

The FAA invites your comments on this proposed policy. We will accept your comments, data, views, or arguments by letter, fax, or e-mail. Send your comments to the person indicated in FOR FURTHER INFORMATION CONTACT. Mark your comments, “Comments to Policy Statement No. ANM-03-115-31.”

Use the following format when preparing your comments:

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

The policy memorandum provides FAA certification policy on conducting component level tests in order to demonstrate compliance with the requirements of § 25.785(b) and (d). The tests described herein provide a standardized approach by which each potentially injurious item located within the headstrike zone can be assessed for occupant injury potential. These test methods are the product of an Aviation Rulemaking Advisory Committee recommendation and are harmonized with the Joint Aviation Authorities (JAA) and Transport Canada.

On August 16, 2003, the FAA received a request from the General Aviation Manufacturers Association (GAMA) for an additional 45 days in which to prepare comments on this proposed policy. The reason for the request was that the proposed policy supersedes certain compliance methods that GAMA believes are important and significant methods that should remain acceptable for demonstrating compliance with the delethalization requirements. The FAA has determined that allowing this additional comment time will enhance the policy in that it will provide time for Industry to develop and submit their arguments justifying additional methods of compliance for inclusion in the final policy. The FAA is therefore reopening the comment period to afford all interested parties time to comment.

Issued in Renton, Washington, on September 4, 2008.
Ali Bahrami,
Acting Manager, Transport Airplane Directorate, Aircraft Certification Service.

[FR Doc. 03-23301 Filed 9-12-03; 8:45 am]

BILLING CODE 4910-13-M